DEPARTMENT OF THE INTERIOR

National Park Service

Selma to Montgomery National Historic Trail Advisory Council; Notice of Meeting

Notice is hereby given in accordance with the Federal Advisory Committee Act, Public Law 92-463, that a meeting of the Selma to Montgomery National Historic Trail Advisory Council will be held Tuesday, March 30, 2004, at 9 a.m. until 3:30 p.m., at the Selma Convention Center in Selma, Alabama.

The Selma to Montgomery National Historic Trail Advisory Council was established pursuant to Public Law 100-192, establishing the Selma to Montgomery National Historic Trail. This Council was established to advise the National Park Service on such issues as preservation of trail routes and features, public use, standards for posting and maintaining trail markers, and administrative matters.

The matters to be discussed include:

(A) History and background of the historic trail;

(B) Roles and responsibilities of the Advisory Council;

(C) Update of current trail activities;

(D) Review of the Comprehensive Management Plan;

(E) Plans for the 40th anniversary of the Voting Rights March.

The meeting will be open to the public. However, facilities and space for accommodating members of the public are limited and persons will be accommodated on first come, first serve basis. Anyone may file a written statement with Catherine F. Light, Trail Superintendent, concerning the matters to be discussed.

Persons wishing further information concerning this meeting may contact Catherine F. Light, Trail Superintendent, Selma to Montgomery National Historic Trail, at 334-727-6390 (phone), 334-727-4597 (fax), or mail 1212 Old Montgomery Road, Tuskegee Institute, Alabama 36088.

Catherine F. Light,
Selma to Montgomery National Historic Trail, Superintendent.

[FR Doc. 04-4131 Filed 2-24-04; 8:45 am]

BILLING CODE 4310-04-P